DEPARTMENT OF EDUCATION

34 CFR Chapter III

[CFDA Numbers: 84.133E-5; 84.133E-6; 84.133E-7; and 84.133E-8.]

Final Priorities; National Institute on Disability and Rehabilitation Research—Disability and Rehabilitation Research Projects and Centers Program—Rehabilitation Engineering Research Centers

AGENCY: Office of Special Education and Rehabilitative Services, Department of Education.

ACTION: Final priorities.

SUMMARY: The Assistant Secretary for Special Education and Rehabilitative Services announces priorities under the Disability and Rehabilitation Research Projects and Centers Program administered by the National Institute on Disability and Rehabilitation Research (NIDRR). Specifically, we announce priorities for a Rehabilitation Engineering Research Center (RERC) on Rehabilitation Strategies, Techniques, and Interventions (Priority 1), Information and Communication Technologies Access (Priority 2), Individual Mobility and Manipulation (Priority 3), and Physical Access and Transportation (Priority 4). The Assistant Secretary may use one or more of these priorities for competitions in fiscal year (FY) 2013 and later years. We take this action to focus research attention on areas of national need. We intend these priorities to improve community living and participation, health and function, and employment outcomes of individuals with disabilities.

DATES: Effective Date: These priorities are effective July 11, 2013.

FOR FURTHER INFORMATION CONTACT: Marlene Spencer, U.S. Department of Education, 400 Maryland Avenue SW., room 5133, Potomac Center Plaza (PCP), Washington, DC 20202-2700. Telephone: (202) 245-7532 or by email: marlene.spencer@ed.gov.

If you use a telecommunications device for the deaf (TDD) or a text telephone (TTY), call the Federal Relay Service (FRS), toll free, at 1-800-877-8339.

SUPPLEMENTARY INFORMATION:

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Engineering Research Centers Program

The purpose of NIDRR's RERCs program, which is funded through the Disability and Rehabilitation Research Projects and Centers Program, is to improve the effectiveness of services authorized under the Rehabilitation Act. It does so by conducting advanced engineering research, developing and evaluating innovative technologies, facilitating service delivery system changes, stimulating the production and distribution of new technologies and equipment in the private sector, and providing training opportunities. RERCs seek to solve rehabilitation problems and remove environmental barriers to improvements in employment, community living and participation, and health and function outcomes of individuals with disabilities.

The general requirements for RERCs are set out in subpart D of 34 CFR part 350 (What Rehabilitation Engineering Research Centers Does the Secretary Assist?).

Additional information on the RERCs program can be found at: www.ed.gov/rschstat/research/pubs/index.html.

Program Authority: 29 U.S.C. 762(g) and 764(b)(3)(A).

Applicable Program Regulations: 34 CFR part 350.

We published a notice of proposed priorities for this program in the Federal Register on March 8, 2013 (78 FR 14947). That notice contained background information and our reasons for proposing these particular priorities.

There are differences between the proposed priorities and the final priorities as discussed in the Analysis of Comments and Changes section.

Public Comment: In response to our invitation in the notice of proposed priorities, 13 parties submitted comments on the proposed priorities.

We group issues according to the priority or priorities to which they pertain. Generally, we do not address technical and other minor changes or suggested changes the law does not authorize us to make under the applicable statutory authority. In addition, we generally do not address comments that raise concerns not directly related to the proposed priorities.

Analysis of Comments and Changes: An analysis of the comments and changes in the priorities since publication of the notice of proposed priorities follows.

RERC on Rehabilitation Strategies, Techniques, and Interventions (Priority 1)

Comment: Eight commenters noted that this priority includes “communication aids” as one among many potential topics for research and development. Each of these commenters described the need for continued research and development on communication enhancement and augmentative and alternative communication interventions. These commenters noted that additional research is specifically needed to develop better measures of outcomes for communication enhancement treatments and interventions. These commenters requested that NIDRR create a priority for an RERC that is dedicated specifically to communication enhancement.

Discussion: NIDRR acknowledges the importance of communication enhancement technologies and augmentative and alternative communication interventions. The priority is intended to be broad enough to allow applicants to submit proposals for an RERC on communication enhancement and augmentative and alternative communication interventions, as well as on other important topics. As discussed in NIDRR's Long-Range Plan for Fiscal Years 2013-2017 (78 FR 20299) (Plan), NIDRR seeks to generate more field-initiated grant opportunities. With the priorities established in this notice, we encourage RERC applicants to propose and justify research and development across a wide range of potential topics in the broad area of rehabilitation strategies, techniques, and interventions. As described in our Plan, NIDRR anticipates holding grant competitions on a regular basis in this and the three other broad rehabilitation engineering areas described in this notice. Through this process, NIDRR aims to increase competition for RERC grants and to draw upon the field's expertise, knowledge, and creativity to optimize the quality and relevance of the rehabilitation engineering research and development that NIDRR funds.

Changes: None.

RERC on Information and Communication Technologies (Priority 2)

Comment: Two commenters noted that this priority focuses primarily on the accessibility of information and communication technologies (ICT) and suggested that the title of this priority reflect this focus on access.

Discussion: NIDRR agrees that the title of this priority should be changed to reflect that the priority's focus on ICT accessibility.

Changes: NIDRR has revised the title of this priority to “RERC on Information and Communication Technologies Access.”

RERC on Individual Mobility and Manipulation (Priority 3)

Comment: One commenter suggested that this priority focus on the engineering of low-cost, high-quality products that enhance the ability of individuals with disabilities to perform activities of daily living and to be more independent. The commenter suggested that the products generated by the RERC be adjustable, lightweight, durable, user-friendly, and low maintenance.

Discussion: NIDRR generally agrees with the comments about the importance of developing products that are adjustable, lightweight, durable, user-friendly, and low maintenance. At the same time, we recognize that achieving all of these qualities may not be feasible, depending on the intended use of the product and its target population or on the stage of research and development in a particular rehabilitation engineering subfield. Nothing in the priority precludes applicants from proposing research and development projects that focus on the design qualities identified by the commenter. However, we do not want to discourage important, innovative, or new research and development activities by requiring these design qualities in each of the products to be developed by this RERC. The peer review process will determine the merits of each proposal.

Changes: None.

RERC on Physical Access and Transportation (Priority 4)

NIDRR did not receive comments on this priority.

Comments Applicable to All Four Priorities

Comment: Two commenters suggested that NIDRR require applicants under each of the priorities to address the “stages of research” and the “stages of development” that are described in NIDRR's Plan.

Discussion: RERC grantees conduct both research and development projects. As discussed in the Plan, NIDRR is working with stakeholders to develop “stages of development” comparable to its “stages of research” for use by applicants and grantees. Because research and development tend to be interwoven in the RERCs program, we believe it would be premature to require applicants to identify their stages of research until we have developed the stages of development and clarified the interaction between the two. Once NIDRR completes this process, we anticipate requiring identification of stages of research and stages of development in RERC grant applications.

Changes: None.

Final Priorities

Priority 1—RERC on Rehabilitation Strategies, Techniques, and Interventions.

Under this priority, the RERC must research, develop, and evaluate innovative technologies and strategies that will result in new or improved products, devices, and technological advances that are integrated into rehabilitation services in clinical or community settings. The RERC must be designed to improve outcomes of individuals with disabilities in one or more of the following domains: Employment, community living and participation, or health and function. Research and development topics under this priority may include but are not limited to: Virtual reality; therapy robots; telerehabilitation; recreational technology; health-related products and equipment; and cognitive, sensory, and communication aids.

Proposed Priority 2—RERC on Information and Communication Technologies Access.

Under this priority, the RERC must research, develop, and evaluate innovative technologies and strategies that will optimize accessibility and usability of one or more of the following: Telecommunications products; wireless technologies; technology interfaces; computer systems; software; and networks for individuals with disabilities. The RERC must be designed to improve outcomes of individuals with disabilities in one or more of the following domains: Employment, community living and participation, or health and function. Research and development topics under this priority may include but are not limited to: Telecommunication access in emergency situations; interoperability between current and next-generation telecommunication access; access to and use of wireless technologies; universal design approaches in future generations of wireless technologies; and accessibility of information technologies and electronic products by people with disabilities.

Proposed Priority 3—RERC on Individual Mobility and Manipulation.

Under this priority, the RERC must research, develop, and evaluate innovative technologies and strategies that will result in new or improved products, devices, or technological advances that allow individuals with disabilities to be more mobile and to manipulate their environments more efficiently and effectively. The RERC must be designed to improve outcomes of individuals with disabilities in one or more of the following domains: Employment, community living and participation, or health and function. Research and development topics under this priority may include but are not limited to: Equipment for personal mobility; assistive technology for manipulation; and prosthetics and orthotics.

Proposed Priority 4—RERC on Physical Access and Transportation.

Under this priority, the RERC must research, develop, and evaluate innovative technologies and strategies that will result in one or more of the following: The continued promotion of universal design and the planning of accessible buildings, homes, parks, neighborhoods, and cities, or the accessibility and safety of transportation options. The RERC must be designed to improve outcomes of individuals with disabilities in one or more of the following domains: Employment, community living and participation, or health and function. Research and development topics under this priority may include but are not limited to: Design and modification of the built environment; and the accessibility, safety, affordability, and independent use of transportation options (including public transportation, commercial transportation, and personal vehicles).

Requirements Applicable to All Four Proposed Priorities

Under each priority, the RERC must be designed to contribute to the following outcomes:

(1) Increased technical and scientific knowledge relevant to its research area. The RERC must contribute to this outcome by conducting high-quality, rigorous research and development projects.

(2) Increased innovation in technologies, products, environments, performance guidelines, and monitoring and assessment tools applicable to its research area. The RERC must contribute to this outcome through the development and testing of these innovations.

(3) Improved research capacity in its research area. The RERC must contribute to this outcome by collaborating with the relevant industry, professional associations, institutions of higher education, health care providers, or educators, as appropriate.

(4) Improved usability and accessibility of products and environments in its research area. The RERC must contribute to this outcome by emphasizing the principles of universal design in its product research and development. For this purpose, “universal design” means the design of products and environments to be usable by all people, to the greatest extent possible, without the need for adaptation or specialized design.

(5) Improved awareness and understanding of cutting-edge developments in technologies within its research area. The RERC must contribute to this outcome by identifying and communicating with relevant stakeholders, including NIDRR, individuals with disabilities, their representatives, disability organizations, service providers, professional journals, manufacturers, and other interested parties regarding trends and evolving product concepts related to its research area.

(6) Increased dissemination of research in the research area. The RERC must contribute to this outcome by providing technical assistance to relevant public and private organizations, individuals with disabilities, employers, and schools on policies, guidelines, and standards related to its research area.

(7) Increased transfer of RERC-developed technologies to the marketplace. The RERC must contribute to this outcome by developing and implementing a plan for ensuring that all technologies developed by the RERC are made available to the public. The technology transfer plan must be developed in the first year of the project period in consultation with the NIDRR-funded Disability Rehabilitation Research Project, Center on Knowledge Translation for Technology Transfer.

In addition, under each priority, the RERC must—

• Have the capability to design, build, and test prototype devices and assist in the technology transfer and knowledge translation of successful solutions to relevant production and service delivery settings;

• Evaluate the efficacy and safety of its new products, instrumentation, or assistive devices;

• Provide as part of its proposal, and then implement, a plan that describes how it will include, as appropriate, individuals with disabilities or their representatives in all phases of its activities, including research, development, training, dissemination, and evaluation;

• Provide as part of its proposal, and then implement, a plan to disseminate its research results to individuals with disabilities and their representatives; disability organizations; service providers; professional journals; manufacturers; and other interested parties. In meeting this requirement, each RERC may use a variety of mechanisms to disseminate information, including state-of-the-science conferences, webinars, Web sites, and other dissemination methods; and

• Coordinate research projects of mutual interest with relevant NIDRR-funded projects, as identified through consultation with the NIDRR project officer.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use one or more of these priorities, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities only on a reasoned determination that their benefits justify their costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Disability and Rehabilitation Research Projects and Centers Program have been well established over the years, as projects similar to the RERCs have been completed successfully. Establishing new RERCs based on the final priorities will generate new knowledge through research and development and improve the lives of individuals with disabilities. The new RERCs will provide support and assistance for NIDRR grantees as they generate, disseminate, and promote the use of new information that will improve the options for individuals with disabilities to perform regular activities of their choice in the community.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 6, 2013.
Michael K. Yudin,
Delegated the authority to perform the functions and duties of the Assistant Secretary for Special Education and Rehabilitative Services.

[FR Doc. 2013-13851 Filed 6-10-13; 8:45 am]

BILLING CODE 4000-01-P